DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the FY 2011 Program by the Maine Lobstermen's Association on behalf of American lobster (Homarus americanus) fishermen who catch and market their lobster in Maine. The Administrator will determine within 40 days whether or not increasing imports of American lobster contributed importantly to a greater than 15-percent decrease in the production value of lobster compared to the average of the three preceding marketing years. If the determination is affirmative, fishermen who land and market American lobster in Maine will be eligible to apply to the Farm Service Agency for free technical assistance and cash benefits.

FOR FURTHER INFORMATION CONTACT: Trade Adjustment Assistance for Farmers Staff, FAS, USDA, by phone: (202) 720-0638, or (202) 690-0633; or by e-mail: tradeadjustment@fas.usda.gov; or visit the TAA for Farmers' Web site: http://www.fas.usda.gov/itp/taa.

Dated: July 14, 2010.
John D. Brewer,
Administrator, Foreign Agricultural Service.

[FR Doc. 2010-17804 Filed 7-20-10; 8:45 am]

BILLING CODE 3410-10-P